DEPARTMENT OF THE INTERIOR

National Park Service

[NPS-WASO-NAGPRA-13618: PPWOCRADN0-PCU00RP14.R50000]

Notice of Inventory Completion: Anthropological Studies Center, Archaeological Collections Facility, Sonoma State University, Rohnert Park, CA; Correction

AGENCY: National Park Service, Interior.

ACTION: Notice; correction.

SUMMARY: The Anthropological Studies Center, Sonoma State University, has corrected an inventory of human remains and associated funerary objects, published in a Notice of Inventory Completion in the Federal Register on June 21, 2007. This notice corrects the minimum number of individuals and the number of associated funerary objects from site CA-MRN-27. Lineal descendants or representatives of any Indian tribe or Native Hawaiian organization not identified in this notice that wish to request transfer of control of these human remains and associated funerary objects should submit a written request to the Anthropological Studies Center, Sonoma State University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Anthropological Studies Center, Sonoma State University, at the address in this notice by September 16, 2013.

ADDRESSES: Sandra Massey, NAGPRA Coordinator, Anthropological Studies Center, Archaeological Collections Facility, Sonoma State University, 1801 East Cotati Ave., Building 29, Rohnert Park, CA 94928, telephone (707) 664-2381, email massey@sonoma.edu.

SUPPLEMENTARY INFORMATION: Notice is here given in accordance with the Native American Graves Protection and Repatriation Act (NAGPRA), 25 U.S.C. 3003, of the correction of an inventory of human remains and associated funerary objects under the control of the Anthropological Studies Center, Sonoma State University, Rohnert Park, CA. The human remains and associated funerary objects were removed from site CA-MRN-27, Marin County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (72 FR 34275-34276, June 21, 2007). Re-inventory of the collection discovered fewer individuals and more associated funerary objects from site CA-MRN-27. Transfer of control of the items in this correction notice has not occurred.

Correction

In the Federal Register (72 FR 34275-34276, June 21, 2007), paragraph seven, sentence one is corrected by substituting the following sentences:

In 1967, human remains representing a minimum of 104 individuals were removed from the Reedland Woods site (CA-MRN-27), Tiburon, Marin County, CA, during an excavation under the direction of Dr. Frederickson (accession number 67-01). Additional human remains and associated funerary objects from this site were reburied in 1992 at Ya-Ka-Ama Indian Educational Center in Forestville, CA.

In the Federal Register (Vol 72 FR 34275-34276, June 21, 2007), paragraph seven, sentence six is corrected by substituting the following sentences:

The 6,640 associated funerary objects are 33 bone tools; 2 bone beads; 8 bone pendants; 1 bone pendant or net gauge; 32 bone tubes; 1 bone tube/whistle; 8 bone whistles; 19 pieces modified bone of indefinite use; 4 antler tools; 7 charmstones; 2 quartz crystals; 6 pieces miscellaneous groundstone; 7 pestles; 1 mortar; 53 obsidian tools; 12 worked/utilized obsidian flakes; 12 pieces otherwise worked obsidian; 5 chert tools; 3 chert utilized/worked flakes; 5 pieces otherwise worked chert; 7 pieces worked miscellaneous lithics; 3 pieces micaceous schist; 1 steatite ring; 1 steatite cone; 2 steatite pendants; 5 steatite beads; 4 pieces unworked steatite; 13 Haliotis (abalone) shell ornaments; 27 Haliotis beads; 2 Haliotis pendants; 669 Olivella shell beads; 113 miscellaneous shell beads; 4 pieces perforated Macoma (saltwater clam) shell; 7 pieces ochre; 193 pieces miscellaneous lithic debitage; 154 pieces baked clay; 35 clay shell casts; 1 charcoal sample; 4,328 pieces unmodified faunal bone; 422 pieces unmodified shell; 426 pieces miscellaneous unmodified lithic materials; and 2 soil samples.

In the Federal Register (Vol 72 FR 34275-34276, June 21, 2007), paragraph 19, sentences one and two are corrected by substituting the following sentences:

Officials of the Archaeological Collections Facility, Sonoma State University determined that, pursuant to 25 U.S.C. 3001 (9-10), the human remains described above represent the physical remains of 156 individuals of Native American ancestry. Officials of the Archaeological Collections Facility, Sonoma State University also have determined that, pursuant to 25 U.S.C. 3001 (3)(A), the 6,640 objects described above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Sandra Massey, NAGPRA Coordinator, Anthropological Studies Center, Archaeological Collections Facility, Sonoma State University, 1801 East Cotati Ave., Building 29, Rohnert Park, CA, 94928, telephone (707) 664-2381, email massey@sonoma.edu, by September 16, 2013. After that date, if no additional requestors have come forward, transfer of control of the human remains and associated funerary objects to Federated Indians of Graton Rancheria, California, may proceed.

The Anthropological Studies Center, Sonoma State University, is responsible for notifying the Federated Indians of Graton Rancheria, California, that this notice has been published.

Dated: July 24, 2013.
Sherry Hutt,
Manager, National NAGPRA Program.

[FR Doc. 2013-20034 Filed 8-15-13; 8:45 am]

BILLING CODE 4312-50-P